DEPARTMENT OF EDUCATION

Privacy Act of 1974; System of Records

AGENCY: Office of Special Education and Rehabilitative Services, Department of Education.

ACTION: Notice of a new system of records.

SUMMARY: In accordance with the Privacy Act of 1974, as amended (Privacy Act), the Department of Education (Department) publishes this notice of a new system of records for tracking telephone calls and correspondence from State personnel and parents about disability issues related to children with disabilities.

DATES: The Department seeks comments on the new system of records described in this notice, in accordance with the requirements of the Privacy Act. We must receive your comments on or before September 10, 2003.

The Department filed a report describing the system of records covered by this notice with the Chair of the Senate Committee on Governmental Affairs, the Chair of the House Committee on Government Reform, and the Administrator of the Office of Information and Regulatory Affairs, Office of Management and Budget (OMB) on August 6, 2003. This system of records will become effective at the later date of—(1) The expiration of the 40-day period for OMB review on September 15, 2003 or (2) September 10, 2003, unless the system of records needs to be changed as a result of public comment or OMB review.

ADDRESSES: Address all comments about this system of records to Larry Wexler, Deputy, Monitoring & State Improvement Planning Division, Office of Special Education, Office of Special Education and Rehabilitative Services, U.S. Department of Education, 400 Maryland Avenue, SW., room 3630, Mary E. Switzer Building, Washington, DC 20202. If you prefer to send your comments through the Internet, use the following address: comments@ed.gov. You must include the term “OSEP TRACKING SYSTEM” in the subject line of the electronic comment.

During and after the comment period, you may inspect all comments about this notice in room 3630, Mary E. Switzer Building, 330 C Street, SW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Larry Wexler. Telephone: (202)-205-5390. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in 34 CFR part 5b.

The Privacy Act applies to a record about an individual that contains individually identifiable information that is retrieved by a unique identifier associated with each individual, such as a name or social security number. The information about each individual is called a “record,” and the system, whether manual or computer-based, is called a “system of records.” The Privacy Act requires each agency to publish notices of systems of records in the Federal Register and to prepare reports to OMB whenever the agency publishes a new or altered system of records. Each agency is also required to send copies of the report to the chair of the Senate Committee on Governmental Affairs and the chair of the House Committee on Governmental Reform.

Electronic Access to This Document

You may view this document, as well as other Department of Education documents published in the Federal Register in text or Adobe Portable Document Format (PDF) on the Internet at the following site: http://www.ed.gov/legislation/FedRegister.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official version of the Federal Register and the Code of Federal Regulations is available on GPO Access at: http://www.access.gpo.gov/nara/index.html.

Dated: August 6, 2003.
Robert H. Pasternack,
Assistant Secretary for Special Education and Rehabilitative Services.

For reasons discussed in the preamble, the Assistant Secretary for Special Education and Rehabilitative Services (OSERS) of the U.S. Department of Education (the Department) publishes a notice of a new system of records to read as follows:

18-16-01

System Name:

OSEP Customer Service Tracking System.

Security Classification:

None.

System Location(s):

Monitoring and State Improvement Planning Division, Office of Special Education Programs (OSEP), Office of Special Education and Rehabilitative Services (OSERS), Mary E. Switzer Building, 330 C Street, SW., Room 3630, Washington, DC 20202.

Categories of Individuals Covered by the System:

This system covers parents, advocates, State personnel and other third parties who contact OSEP with inquiries or complaints related to special education. OSEP staff, especially the Customer Service Specialists (CSS), receive letters, e-mails, facsimiles and telephone calls from State personnel and parents about disability issues related to children with disabilities.

These complaints and inquiries are tracked by an electronic system that maintains customer demographic data, as well as information on the content of the complaints and inquiries. The system also allows OSEP to maintain a detailed history of the interactions between callers and/or writers and the CSS.

Categories of Records in the System:

This system consists of records relating to inquiries or complaints made to OSEP staff, including but not limited to: the writer's and/or caller's name; the name, age and type of disability of the child about whom the writer/caller is inquiring about; the writer's or caller's address, including an e-mail address; the school district involved in the inquiry or complaint; the writer's or caller's phone number; the issue that the writer and/or caller is raising; a recommendation from the CSS for further action; and comments from the CSS.

This notice does not cover records, including but not limited to letters, e-mails and facsimiles, sent by individuals to the Secretary, Deputy Secretary, Senior Officers such as the Assistant Secretary of OSERS and the Director of OSEP for whom the Department controls responses to such inquiries. Further, this notice does not cover the official correspondence files of OSEP, specifically the hard copies of official documents and electronic images of certain incoming and outgoing documents. These records are considered covered by the Department's system of records 18-01-01, Secretary's Communication Control System.

Authority for Maintenance of the System:

Title I of the Individuals with Disabilities Education Act (IDEA), as amended, 20 U.S.C. Section 1402.

Purpose(s):

This system of records is maintained to provide its customers (parents, advocates and others) with more responsive, consistent service; to better track the large number of calls and other inquiries received; to provide trend analysis by issue; to develop a profile of the issues that arise in a certain State; to assist OSEP as a management tool in the preparation of reports, and to monitor State implementation of the IDEA.

Routine Uses of Records Maintained in the System, Including Categories of Users and the Purposes of Such Uses:

The Department of Education (Department) may disclose information contained in a record in this system of records under the routine uses listed in this system of records without the consent of the individual if the disclosure is compatible with the purposes for which the record was collected. These disclosures may be made on a case-by-case basis or, if the Department has complied with the computer matching requirements of the Computer Matching and Privacy Protection Act of 1998, under a computer matching agreement.

(1) Freedom of Information Act (FOIA) Advice Disclosure. The Department may disclose records to DOJ and OMB if the Department seeks advice regarding whether records maintained in the system of records must be released under the FOIA and the Privacy Act of 1974.

(2) Disclosure to the DOJ. The Department may disclose records to the DOJ to the extent necessary for obtaining DOJ advice on any matter relevant to an audit, inspection, or other inquiry related to the programs covered by this system.

(3) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(4) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department, or any of its components; or

(ii) Any Department employee in his or her official capacity; or

(iii) Any Department employee in his or her official capacity where the DOJ is requested to provide or arrange for representation of the employee;

(iv) Any Department employee in his or her individual capacity where the Department has agreed to represent the employee; or

(v) The United States where the Department determines that the litigation is likely to affect the Department or any of its components.

(b) Disclosure to the DOJ. If the Department determines that disclosure of certain records to the DOJ is relevant and necessary to litigation or ADR, and is compatible with the purpose for which the records were collected, the Department may disclose those records as a routine use to the DOJ.

(c) Adjudicative disclosures. If the Department determines that disclosure of certain records to an adjudicative body before which the Department is authorized to appear, an individual or entity designated by the Department or otherwise empowered to resolve or mediate disputes is relevant and necessary to the litigation or ADR, the Department may disclose those records as a routine use to the adjudicative body, individual, or entity.

(d) Parties, counsels, representatives and witnesses. If the Department determines that disclosure of certain records to a party, counsel, representative or witness is relevant and necessary to the litigation or ADR, the Department may disclose those records as a routine use to the party, counsel, representative or witness.

(5) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(6) Congressional Member Disclosure. The Department may disclose records to a Member of Congress from the record of an individual in response to an inquiry from the Member made at the written request of that individual. The Member's right to the information is no greater than the right of the individual who requested it.

(7) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

Disclosures to Consumer Reporting Agencies:

Not applicable to this system of records.

Policies and Practices for Storing, Retrieving, Accessing, Retaining, and Disclosing of Records in the System: Storage:

The information in the tracking system will be stored on a server maintained by the Department of Education. Records generated by the system will be maintained electronically on the server.

Retrievability:

This system will only be accessible to Departmental contractors and employees of OSEP. Each record in this system can be retrieved by entering in any of the categories of information listed under the “Categories of Records In This System” in this notice.

Safeguards:

The primary users of this system, Monitoring and State Improvement Planning Division (MSIP) employees in OSEP, will enter a unique user ID as well as a password to enter the system. This user ID and password will be in addition to the user ID and password that all Department employees must enter to access the Department's computer system. Users will be required to change their passwords periodically, and they will not be allowed to repeat old passwords. Any individual attempting to log on who fails is locked out of the system after three attempts. Access after that time requires intervention by the system manager.

The computer system employed by the U.S. Department of Education offers a high degree of resistance to tampering and circumvention. This security system limits data access to Department and contract staff on a “need to know” basis and controls individual users' ability to access and alter records within the system.

The location of the server includes safeguards and firewalls, including the physical security of the server room. In addition, the server is located in a secure room, with limited access only through a special pass. Further, all physical access to the site where the server is maintained is controlled and monitored by security personnel who check each individual entering the building for his or her employee or visitor badge.

Retention and Disposal:

Records in this system will be retained in accordance with the National Archives and Records Administration (NARA) General Records Schedule 20, Item 1.c which provides disposal authorization for electronic files and hard-copy printouts created to monitor system usage. Records will be deleted or destroyed when the agency determines they are no longer needed for administrative, legal, audit, or other operational purposes.

System Managers and Address:

Deputy, MSIP Division, Office of Special Education Programs, Office of Special Education and Rehabilitative Services, U.S. Department of Education, Mary E. Switzer Building, Room 3630, 330 C Street, SW., Washington, DC 20202.

Notification Procedure:

If you wish to determine whether a record exists about you in the system of records, provide the system manager with your name or your child's name and your address. Your request for notification must also meet the requirements of the regulations at 34 CFR 5b.5, including proof of identity. You may also present your request in person or make your request in writing to the system manager at the above address.

Record Access Procedures:

Request to access a record must also reasonably specify the record contents sought and otherwise meet the requirements of the regulations at 34 CFR 5b.5, including proof of identity.

Contesting Record Procedures:

If you wish to change the content of a record in this system of records, you must contact the system manager at the above address and follow the steps outlined in the Notification procedure. Requests to amend a record must also reasonably identify the record, specify the information being contested, provide in writing your reasons for requesting the change, and otherwise meet the regulations at 34 CFR 5b.7.

Record Source Categories:

Information in this system is obtained from parents, advocates, and other third parties that contact OSEP with concerns or complaints related to special education.

System Exempted From Certain Provisions of the Act:

None.

[FR Doc. 03-20435 Filed 8-8-03; 8:45 am]

BILLING CODE 4000-01-P